DEPARTMENT OF TRANSPORTATION

Federal Transit Administration

Notice of Meeting of the Transit Advisory Committee for Safety (TRACS)

AGENCY: Federal Transit Administration, Department of Transportation (DOT).

ACTION: Notice of meeting.

SUMMARY: This notice announces a public meeting of the Transit Advisory Committee for Safety (TRACS). TRACS is a Federal Advisory Committee established by the Secretary of Transportation in accordance with the Federal Advisory Committee Act to provide information, advice, and recommendations to the Secretary of the U.S. Department of Transportation and the Federal Transit Administrator on matters relating to the safety of public transportation systems.

DATES: The TRACS meeting will be held on October 28, 2014, from 8:30 a.m. to 5 p.m., and October 29, 2014, from 8:30 a.m. to 5 p.m. Contact Esther White (see contact information below) by October 17, if you wish to be added to the visitor's list to gain access to the U.S. Department of Transportation conference center.

ADDRESSES: The meeting will be held at the U.S. Department of Transportation, 1200 New Jersey Avenue SE., Washington, DC 20590, Oklahoma City Room. Attendees who are on the visitor's list can access the building by presenting a current state issued driver's license or state non-driver's license, or any valid Federal identification (ID). All identification must be a picture ID. Although this meeting is open to the public, the meeting facility is in a secure building. Attendees who have not pre-registered with FTA must be cleared by FTA personnel on site.

SUPPLEMENTARY INFORMATION: This notice is provided in accordance with the Federal Advisory Committee Act (Pub. L. 92-463, 5 U.S.C. App. 2). TRACS is a Federal Advisory Committee established to provide information, advice, and recommendations to the Secretary of the U.S. Department of Transportation and the Administrator of the Federal Transit Administration on matters relating to the safety of public transportation systems. TRACS is currently composed of 28 members representing a broad base of expertise necessary to discharge its responsibilities. The first meeting of TRACS was held on September 9-10, 2010. For information on TRACS activities, please visit the TRACS Web site at: http://www.fta.dot.gov/13099.html.

The TRACS members are:

Samir A. Ahmed, Oklahoma State University School of Civil & Environmental Engineering

William Bates, United Transportation Union

Bernadette Bridges, Maryland Transit Administration

Jeffrey C. Carlson, VIA Mobility Services

James Dougherty, Washington Metropolitan Area Transportation Authority

David Genova, Regional Transportation District (Denver)

William Grizard, American Public Transportation Association

David Harris, New Mexico Department of Transportation

Susan Hausmann, Texas Department of Transportation

Georgina Heard-Leone, Illinois Department of Transportation

Rick Inclima, Brotherhood of Maintenance of Way Employees Division

Jackie Jeter, Amalgamated Transit Union, Local 689

Timothy H. Kelly, Metropolitan Transit Authority of Harris County

Cheryl Kennedy, New York City Transit Authority

Vijay Khatami, Los Angeles County Metropolitan Transportation Authority

Paul King, California Public Utilities Commission

Richard Krisak, Metropolitan Atlanta Rapid Transit Authority

Tamara Lesh, Southeastern Pennsylvania Transportation Authority

Rad Nichols, Cooperative Alliance for Seacoast Transportation

Ronald W. Nickle, Massachusetts Bay Transportation Authority

Alvin Pearson, Memphis Area Transit Authority

Karen Philbrick, Mineta Transportation Institute

Harry Saporta, Tri-County Metropolitan Transportation District of Oregon

Scott A. Sauer, Southeastern Pennsylvania Transportation Authority

Nagal Shashidhara, New Jersey Transit

Brian Sherlock, Amalgamated Transit Union

Ed Watt, Amalgamated Transit Union

Victor B. Wiley, Florida Department of Transportation

The agenda for the seventh meeting of TRACS is set forth below:

Agenda

(1) Welcome Remarks/Introductions

(2) Facility Use/Safety Briefing

(3) Recap of TRACS Activities

(4) Future TRACS Activities/Deliverables

(5) Public Comments

(6) Wrap Up

This meeting will be open to the public; however, the U.S. Department of Transportation is a secured facility and persons wishing to attend must contact Esther White, Office of Transit Safety and Oversight, Federal Transit Administration, (202) 366-0198; or at TRACS@dot.gov by close of business October 17, 2014, to have your name added to the security list. Members of the public, who wish to make an oral statement at the meeting or seek special accommodations, are also directed to make a request to Esther White, Office of Transit Safety and Oversight, Federal Transit Administration (202) 366-0198; at TRACS@dot.gov on or before the close of business October 17, 2014. Members of the public may submit written comments or suggestions concerning the activities of TRACS, at any time before or after the meeting, at TRACS@dot.gov, or to the U.S. Department of Transportation, Federal Transit Administration, Office of Transit Safety and Oversight, Room E46-107, 1200 New Jersey Avenue SE, Washington, DC 20590. Attention: Esther White. Information from the meeting will be posted on FTA's public Web site at http://www.fta.dot.gov/13099.html on the TRACS Meeting Minutes page. Written comments submitted to TRACS will also be posted at the above web address.

Therese W. McMillan,
Acting Administrator.

[FR Doc. 2014-24363 Filed 10-10-14; 8:45 am]

BILLING CODE P